DEPARTMENT OF TRANSPORTATION

Federal Aviation Administration

Notice of Opportunity for Public Comment on Land Use Change From Aeronautical to Non-Aeronautical Use at Hanscom Field in Bedford, MA

AGENCY: Federal Aviation Administration (FAA), DOT.

ACTION: Request for public comments.

SUMMARY: Under the provisions of Title 49, U.S.C. 47153(d), notice is being given that the FAA is considering a request from the Massachusetts Port Authority (MPA) in East Boston, MA, to waive the surplus property requirements for approximately 7.1 acres of airport property located at Hanscom Field in Bedford, MA.

The subject parcel has been identified for commercial development and MPA will negotiate a long term lease to generate non-aviation revenue for the airport. As such, MPA is requesting a release to change the property from aeronautical use to non-aeronautical use. It has been determined through study and master planning that the subject parcel will not be needed for future aeronautical purposes. Further, the parcel of land is separated by a road and not contiguous to the airport proper. Full and permanent relief of the surplus property requirements on this parcel will allow the airport to generate long term revenue through lease of the land. All lease revenue will continue to be subject to the FAAs revenue-use policy and dedicated to the maintenance and operation of Hanscom Field.

DATES: Comments must be received on or before October 17, 2016.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W12-140, 1200 New Jersey Avenue SE., Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, Telephone 781-238-7618.

Issued in Burlington, Massachusetts, on September 6, 2016.
Mary T. Walsh,
Manager, Airports Division.

[FR Doc. 2016-22137 Filed 9-15-16; 8:45 am]

BILLING CODE 4910-13-P